DEPARTMENT OF COMMERCE

Bureau of Industry and Security

15 CFR Part 744

[Docket No. 230301-0058]

RIN 0694-AJ06

Additions and Revisions of Entities to the Entity List

AGENCY: Bureau of Industry and Security, Department of Commerce.

ACTION: Final rule.

SUMMARY: The Bureau of Industry and Security is amending the Export Administration Regulations (EAR) by adding 37 entities under 38 entries to the Entity List. These entities are listed under the destinations of Belarus (1), Burma (3), the People's Republic of China (China) (28), Pakistan (4), Russia (1), and Taiwan (1). Some entities are added under multiple entries, accounting for the difference in the totals. This final rule also modifies 10 existing entries on the Entity List under the destination of China.

DATES: This rule is effective March 2, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) where a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

In this final rule, the ERC determined to add AIF Global Logistics Co., Ltd., Aispeed Industry Ltd., Arttronix International (HK) Ltd., Galaxy Electronics, Jotrin Electronics Ltd., Korchina Logistics (HK) Ltd., Suzhou Centec Communications Co., Ltd. and Suzhou Centec Technology Co., Ltd to the Entity List, all under the destination of China, for engaging in activities contrary to the national security and foreign policy interests of the United States under § 744.11 of the EAR. Specifically, AIF Global Logistics Co., Ltd., Aispeed Industry Ltd., Arttronix International (HK) Ltd., Galaxy Electronics, Jotrin Electronics Ltd., and Korchina Logistics (HK) Ltd., are being added as these companies have supplied and/or attempted to supply items subject to the EAR to Iran's Paradazan System Namad Arman (PASNA), an entity listed by the U.S. Department of Treasury's Office of Foreign Assets Control (OFAC) as a Specially Designated National (SDN). Suzhou Centec Communications Co., Ltd. and Suzhou Centec Technology Co., Ltd., are added for their support of China's military modernization. These actions include acquiring or attempting to acquire U.S.-origin items in support of programs for the People's Liberation Army and providing goods and services to customers on the BIS Entity List, leading to the possibility for diversion. Suzhou Centec Technology Co., Ltd. also participates in and hosts military and military-civil fusion exhibitions and summits, and specifically advertises military end uses for its products. These eight entities are added with a license requirement for all items subject to the EAR. License applications will be reviewed under a presumption of denial.

The ERC determined to add Baoding Giant Import and Export Co., Ltd., Baoding Shimaotong Enterprises Services Co., Ltd., Gaobeidian Kaituo Precise Instrument Co., Ltd., and Luo Dingwen, under the destination of China, to the Entity List. These additions are made due to their contributions to ballistic missile programs of concern. The ERC determined to add Rayscience Optoelectronics Innovation Company Ltd., under the destination of China, based on its contributions to Pakistan's ballistic missile program. These five entities are added with a license requirement for all items subject to the EAR. License applications will be reviewed pursuant to § 744.3(d) of the EAR.

The ERC determined to add Beijing Zhengyuan Chuangshi Consulting Co., Ltd., Hongtai Electric Ltd., Nanjing Colpak Mechanical Equipment Co., Ltd., Liang Ping Huang and Sunton Tech Hong Kong Ltd. to the Entity List, all under the destination of China; Nanjing Jiuding Refrigeration & Air-conditioning Equipment Co., Ltd., under the destinations of China and Pakistan; and Abdul Razaq Asim, Add-On Technology, and Dynamic Engineers under the destination of Pakistan, to the Entity List. These additions are based on the entities' involvement in unsafeguarded nuclear activities and missile-related activities. These eight entities require a license for all items subject to the EAR. License applications will be reviewed pursuant to §§ 744.2(d) and 744.3(d) of the EAR.

The ERC determined to add BGI Research; BGI Tech Solutions (Hongkong) Co., Ltd.; and Forensic Genomics International, to the Entity List, under the destination of China, pursuant to § 744.11 of the EAR. The addition of these entities is based upon information that indicates their collection and analysis of genetic data poses a significant risk of contributing to monitoring and surveillance by the government of China, which has been utilized in the repression of ethnic minorities in China. Information also indicates that the actions of these entities concerning the collection and analysis of genetic data present a significant risk of diversion to China's military programs. These entities are added with a license requirement for all items subject to the EAR. License applications for these entities will be subject to a case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR.

The ERC determined to add FISCA Security & Communication Co., Ltd., Ministry of Transport and Communications, and Naung Yoe Technologies Co., Ltd. to the Entity List, under the destination of Burma. These additions are for activities contrary to U.S. foreign policy interests under § 744.11 of the EAR. These entities are added for providing surveillance equipment and services to Burma's military regime, enabling it to carry out human rights abuses through the tracking and identification of target individuals and groups. The military regime has unjustly arrested leaders of the democratically elected government and committed serious human rights abuses and other abuses against individuals in Burma, including violently suppressing peaceful protests. These entities have enabled these abuses by providing support to Burma's military regime. These entities are added to the Entity List with a license requirement for all items subject to the EAR. License applications for these entities will be reviewed on a case-by-case basis for telecommunications infrastructure items described in Category 5 Part 1 or Category 5 Part 2 and consumer communications devices identified in Part § 740.19; as well as a presumption of denial for all other items subject to the EAR.

The ERC determined to add DMT Trading LLC, under the destination of Belarus, DMT Electronics, under the destination of Russia, and Neotec Semiconductor Ltd., under the destination of Taiwan, to the Entity List. These additions are based on information indicating that these companies significantly contribute to Russia's military and/or defense industrial base, contrary to U.S. national security and foreign policy interests under § 744.11 of the EAR. These entities will receive a footnote 3 designation. A footnote 3 designation indicates that they are Russian or Belarusian `military end users' in accordance with § 744.21. A footnote 3 designation subjects these entities to the Russia/Belarus-Military End User Foreign Direct Product' (FDP) rule, detailed in § 734.9(g). These entities are added with a license requirement for all items subject to the EAR. License applications will be reviewed under policy of denial for all items subject to the EAR other than food and medicine designated as EAR99, which will be reviewed on a case-by-case basis.

The ERC determined to add 4Paradigm Technology Co.; Inspur Group Co., Ltd.; Loongson Technology; National Research Center for Parallel Computer Engineering and Technology; Qingdao National Laboratory of Marine Science and Technology; Wuxi Institute of Advanced Technology; to the Entity List for acquiring and attempting to acquire U.S.-origin items in support of the China's military modernization efforts. This activity is contrary to U.S. national security and foreign policy interests under § 744.11 of the EAR. All of these entities will require a license for items subject to the EAR, which will be reviewed under a presumption of denial. They are also given a footnote 4 designation, which means that “items subject to the EAR” for the purpose of these license requirements include foreign-produced items that are subject to the EAR pursuant to § 734.9(e)(2) of the EAR.

For the reasons described above, this final rule adds the following 37 entities under 38 entries to the Entity List and includes, where appropriate, aliases:

Belarus

• DMT Trading LLC.

Burma

• FISCA Security & Communication Co., Ltd.,

• Ministry of Transport and Communications, and

• Naung Yoe Technologies Co., Ltd.

China

• 4Paradigm Technology Co., Ltd.,

• AIF Global Logistics Co., Ltd.,

• Aispeed Industry Ltd.,

• Arttronix International (HK) Ltd.,

• Baoding Giant Import and Export Co., Ltd.,

• Baoding Shimaotong Enterprises Services Co., Ltd.,

• Beijing Zhengyuan Chuangshi Consulting Co., Ltd.,

• BGI Research,

• BGI Tech Solutions (Hongkong) Co., Ltd.,

• Forensic Genomics International,

• Galaxy Electronics,

• Gaobeidian Kaituo Precise Instrument Co., Ltd.,

• Hongtai Electric Ltd.,

• Inspur Group Co., Ltd.,

• Jotrin Electronics Ltd.,

• Korchina Logistics (HK) Ltd.,

• Liang Ping Huang,

• Loongson Technology,

• Luo Dingwen,

• Nanjing colpak Mechanical Equipment Co., Ltd.,

• Nanjing Jiuding Refrigeration & Air-conditioning Equipment Co., Ltd.,

• National Research Center for Parallel Computer Engineering and Technology,

• Qingdao National Laboratory of Marine Science and Technology,

• Rayscience Optoelectronics Innovation Co., Ltd.,

• Sunton Tech Hong Kong Ltd.,

• Suzhou Centec Communications Co., Ltd.,

• Suzhou Centec Technology Co., Ltd., and

• Wuxi Institute of Advanced Technology.

Pakistan

• Abdul Razaq Asim,

• Add-On Technology,

• Dynamic Engineers, and

• Nanjing Jiuding Refrigeration & Air-conditioning Equipment Co., Ltd.

Russia

• DMT Electronics.

Taiwan

• Neotec Semiconductor Ltd.

Modifications to the Entity List

This final rule implements the decision of the ERC to modify the entries of ten existing entities on the Entity List, all under the destination of China. Nine aliases and nine addresses are added to Beijing Institute of Technology. The license review policy of Beijing University of Aeronautics and Astronautics (BUAA) is modified from the policy set forth in § 744.3(d) to a presumption of denial; this modification is based on their contributions to China's military modernization efforts; ten aliases and eight addresses are added to the entry as well. Two aliases and two addresses are added to the entry for Beijing University of Posts and Telecommunications (BUPT). Two aliases are added to the entry for Harbin Engineering University. Nine aliases and nine addresses are added to the entry for Harbin Institute of Technology. Five aliases and six addresses are added to the entry for Nanjing University of Aeronautics and Astronautics. Five aliases and five addresses are added to the entry for Nanjing University of Science and Technology. Seven aliases and nine addresses are added to the entry for Northwestern Polytechnical University. Five aliases and four addresses are added to the entry for Sichuan University. Thirteen aliases and thirteen addresses are added to the entry for Tianjin University.

Savings Clause

For the changes being made in this final rule, shipments of items removed from eligibility for a License Exception or export, reexport, or transfer (in-country) without a license (NLR) as a result of this regulatory action that were en route aboard a carrier to a port of export, reexport, or transfer (in-country), on March 2, 2023, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended by:

a. Under BELARUS, adding an entry in alphabetical order for “DMT Trading LLC;”

b. Under BURMA, adding entries in alphabetical order for “FISCA Security & Communication Co., Ltd.;” “Ministry of Transport and Communications;” and “Naung Yoe Technologies Co., Ltd.”

c. Under CHINA, PEOPLE'S REPUBLIC OF:

i. Adding entries in alphabetical order for “4Paradigm Technology Co., Ltd.;” “AIF Global Logistics Co., Ltd.;” “Aispeed Industry Ltd.;” “Arttronix International (HK) Ltd.;” “Baoding Giant Import and Export Co., Ltd.;” “Baoding Shimaotong Enterprises Services Co., Ltd.;”

ii. Revising the entries for “Beijing Institute of Technology;” “Beijing University of Aeronautics and Astronautics (BUAA)” “Beijing University of Posts and Telecommunications (BUPT);”

iii. Adding entries in alphabetical order for “Beijing Zhengyuan Chuangshi Consulting Co., Ltd.;” “BGI Research;” “BGI Tech Solutions (Hongkong) Co., Ltd.;” “Forensic Genomics International;” “Galaxy Electronics;” “Gaobeidian Kaituo Precise Instrument Co., Ltd.;”

iv. Revising the entries for “Harbin Engineering University” and “Harbin Institute of Technology;”

v. Adding entries in alphabetical order for “Hongtai Electric Ltd.;” “Inspur Group Co., Ltd.;” “Jotrin Electronics Ltd.;” “Korchina Logistics (HK) Ltd.;” “Liang Ping Huang;” “Loongson Technology;” “Luo Dingwen;” “Nanjing colpak Mechanical Equipment Co., Ltd.;” “Nanjing Jiuding Refrigeration & Air-conditioning Equipment Co., Ltd.;”

vi. Revising the entries for “Nanjing University of Aeronautics and Astronautics;” “Nanjing University of Science and Technology;”

vii. Adding an entry in alphabetical order for “National Research Center for Parallel Computer Engineering and Technology;”

viii. Revising the entry for “Northwestern Polytechnical University;”

ix. Adding entries in alphabetical order for “Qingdao National Laboratory of Marine Science and Technology;” “Rayscience Optoelectronics Innovation Co., Ltd.;”

x. Revising the entry for “Sichuan University;”

xi. Adding entries in alphabetical order for “Sunton Tech Hong Kong Ltd.;” “Suzhou Centec Communications Co., Ltd.;” “Suzhou Centec Technology Co., Ltd.;”

xii. Revising the entry for “Tianjin University;”

xiii. Adding an entry in alphabetical order for “Wuxi Institute of Advanced Technology;”

d. Under PAKISTAN, adding entries in alphabetical order for “Abdul Razaq Asim;” “Add-On Technology;” “Dynamic Engineers;” and “Nanjing Jiuding Refrigeration & Air-conditioning Equipment Co., Ltd.;”

e. Under RUSSIA, adding an entry in alphabetical order for “DMT Electronics;” and

f. Under TAIWAN, adding an entry in alphabetical order for “Neotec Semiconductor Ltd.”

The revisions and additions read as follows:

Supplement No. 4 to Part 744—Entity List

* * * * *

Country | Entity | License requirement | License review policy | Federal Register citation
* * * * * * *
BELARUS | * * * * * *
| DMT Trading LLC, 89/2 Pobediteley Ave., 220020 Minsk, Belarus. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 3/6/23.
| * * * * * *
* * * * * * *
BURMA | FISCA Security & Communication Co., Ltd., No-1/B, FISCA Building, 9 Miles, Pyay Road, Mayangone Township, Yangon City, Burma. | For all items subject to the EAR. (See § 744.11 of the EAR) | Case-by-case review for telecommunications infrastructure items described in Category 5 Part 1 or Category 5 Part 2 and consumer communications devices identified in § 740.19; Presumption of denial for all other items subject to the EAR | 88 FR [INSERT FR PAGE NUMBER] 3/6/2023.
| * * * * * *
| Ministry of Transport and Communications, Office No. 2, Kyidaunggan, Naypidaw, Burma. | For all items subject to the EAR. (See § 744.11 of the EAR) | Case-by-case review for telecommunications infrastructure items described in Category 5 Part 1 or Category 5 Part 2 and consumer communications devices identified in § 740.19; Presumption of denial for all other items subject to the EAR | 88 FR [INSERT FR PAGE NUMBER] 3/6/23.
| * * * * * *
| Naung Yoe Technologies Co., Ltd., No. 92, Thiri Yadanar Shopping Complex Nay Pyi Taw,Zabuthiri Tsp, Nay Pyi Taw, Burma; and No. 16, Aung Min Khaung (2) Street, Kamaryut Township, Yangon, Burma; and Block-4, Unit-4, Corner of Mingalar 2 Street & Blue Diamond Street, Mingalar Mandalay, 73rd Street Between Thazin & Ngu Wah Street, MyoThit1, Chan Mya Tharsi Township, Mandalay, Burma; and No. 315, Aung San Street, Myine Thar Yar Quater, Mawlamyine, Burma; and No. 131, Saw San Tun Street, Myoma Quatar, Taunggyi, Burma. | For all items subject to the EAR. (See § 744.11 of the EAR) | Case-by-case review for telecommunications infrastructure items described in Category 5 Part 1 or Category 5 Part 2 and consumer communications devices identified in § 740.19; Presumption of denial for all other items subject to the EAR | 88 FR [INSERT FR PAGE NUMBER] 3/6/23.
| * * * * * *
* * * * * * *
CHINA, PEOPLE'S REPUBLIC OF | 4Paradigm Technology Co., Ltd., a.k.a., the following three aliases: —4Paradigm; —4th Paradigm; and —Fourth Paradigm. Building 1, No. 66 Qinghe Middle Street, Haidian District, Beijing, China. | For all items subject to the EAR. (See §§ 734.9(e)(2) and 744.11 of the EAR) ⁴ | Presumption of denial | 88 FR [INSERT FR PAGE NUMBER] 3/6/23.
| * * * * * *
| AIF Global Logistics Co., Ltd., 21FL, Room 2110 Number 122 Tiyu East Guangzhou, China; and Room 2501-2508, 25th Floor Hualian Building Number 55 Dongdu Road, Ningbo, 315010, China; and Room 22F 322 Xianxia Road Singular Mansion Shanghai, 200336, China; and Unit A, 13/F JCG Building 16 Mongkok Road Kowloon, Hong Kong; and Workshop C6 28/F TML Tower Number 3 Hoi Shing Road Tsuen Wan N.T., Hong Kong. | For all items subject to the EAR. (See § 744.11 of the EAR) | Presumption of denial | 88 FR [INSERT FR PAGE NUMBER] 3/6/23.
| Aispeed Industry Ltd., Number 5 Langshan Er Road Hi-Tech Zone, Nanshan, Shenzhen, China; and 10B Jin Cheng GE Jin Tao Yuan Tower, Nanshan, Shenzhen, China; and Room A10 Building A Logan Center Building Haishow Road 23 Baoan, Shenzhen, China; and Room 508 5/F Hewlett Center 54 Hoi Tuen Kwun Tong Kowloon, Hong Kong. | For all items subject to the EAR. (See § 744.11 of the EAR) | Presumption of denial | 88 FR [INSERT FR PAGE NUMBER] 3/6/23.
| * * * * * *
| Arttronix International (HK) Ltd., a.k.a., the following one alias: —Aderal Industrial (HK) Limited. Room 3A 25 Builidng A Zhihui Innovation Center Huashenghui 2nd Qianjin Road, Baoan District, Guangdong, China; and 3/F Building A Datang Industrial Area Guanian Street, Longhua District, Guangdong, Shenzhen, China; and Room 1318-10 13/F Hollywood Plaza 610 Nathan Road Mongkok, Hong Kong; and 15/B 15/F Cheuk Nang Plaza 250 Hennessy Road, Hong Kong. | For all items subject to the EAR. (See § 744.11 of the EAR) | Presumption of denial | 88 FR [INSERT FR PAGE NUMBER] 3/6/23.
| * * * * * *
| Baoding Giant Import and Export Co., Ltd., Room 905 Fubaoxiuyu Business Building A, No. 77 Fuxing Road, Baoding City, Hebei, China. | For all items subject to the EAR. (See § 744.11 of the EAR) | See § 744.3(d) of the EAR | 88 FR [INSERT FR PAGE NUMBER] 3/6/23.
| Baoding Shimaotong Enterprises Services Co., Ltd., 35 Baihua West Road, New Urban District, Baoding City, Hebei, China. | For all items subject to the EAR. (See § 744.11 of the EAR) | See § 744.3(d) of the EAR | 88 FR [INSERT FR PAGE NUMBER] 3/6/23.
| * * * * * *
| Beijing Institute of Technology, a.k.a., the following nine aliases: —Beijing Institute of Technology, Advanced Technology Institute; —Beijing Institute of Technology, Chongqing Innovation Center; | For all items subject to the EAR. (See § 744.11 of the EAR) | Presumption of denial | 85 FR 83421 12/22/20. 87 FR 62202, 10/13/22. 88 FR [INSERT FR PAGE NUMBER] 3/6/23.
| —Beijing Institute of Technology, Chongqing Microelectronics Research Institute; —Beijing Institute of Technology, Lunan Research Institute; —Beijing Institute of Technology, Shenzhen Automotive Research Institute; —Beijing Institute of Technology, Shenzhen Research Institute; —Beijing Institute of Technology, Southeast Research Institute; —Beijing Institute of Technology, Suzhou Research Institute; and —Beijing Institute of Technology, Tangshan Research Institute.
| No. 5 South Zhongguancun Street, Haidian District, Beijing, China; and 19th floor, Building A, Innovation Plaza, No. 2007 Pingshan Avenue, Pingshan Street, Pingshan District, Shenzhen, China; and A207, Virtual University Park, South District, High-tech Zone, Yuehai Street, Nanshan District, Shenzhen, China; and No. 1938 Hanhuang Street, Hanjiang District, Putian City, China; and Unit 2, Building 1, Phase 3, R&D Building, Xiyong Micro-Electric Park, Shapingba District, Chongqing, China; and Building 9, No. 9 Shuguang Road, Longxing Town, Yubei District, Chongqing, China; and Building 5, Software Building, No. 3 Peiyuan Road, Science and Technology High-tech Zone, Suzhou, China; and No. 57 Jianshe Nan Road, Lubei District, Tangshan City, Hebei Province, China; and No. 888 Zhengtai Road, Shandong Province, Tengzhou City, China; and No. 3266 Furong Road, Lige Square, Changqing District, Jinan City, China.
| * * * * * *
| Beijing University of Aeronautics and Astronautics (BUAA), a.k.a., the following eleven aliases: —Beihang University; —Beihang University Dongying Research Institute; —Beihang University Hangzhou Innovation Institute; —Beihang University Hefei Innovation Institute; —Beihang University Jiangxi Research Institute; —Beihang University Ningbo Innovation Institute; —Beihang University Qingdao Research Institute; —Beihang University Shenzhen Research Institute; —Beihang University Suzhou Innovation Institute; —Beihang University Taizhou Research Institute; and —Beihang University Yunnan Innovation Institute. | For all items subject to the EAR. (See § 744.11 of the EAR) | Presumption of denial | 66 FR 24266, 5/14/01. 70 FR 54629, 9/16/05. 75 FR 78877, 12/17/10. 88 FR [INSERT FR PAGE NUMBER] 3/6/23.
| 37 Xueyuan Road, Haidian District, Beijing, China; and 393 Songling Road, Laoshan District, Shandong Province, Qingdao City, China; and 8 Shibo Road, Panlong District, Kunming City, China; and 18 Chuanghui Street, Changhe Avenue, Binjiang District, Hangzhou, China; and Group 7, Phase I, 3rd Innovation Base, Kangda Road, Meishan Street, Beilun District, Ningbo, China; and A1 Building, Beihang National University Science Park, 50 meters south of Qianjiang Road, Xinzhan High-tech Zone, Hefei, Anhui, China; and Room B407, Virtual University Park Building, South District, High-tech Zone, Yuehai Street, Nanshan District, Shenzhen, China; and Building 1, Science and Technology Innovation Center, High-tech Zone, Nanchang, China; and No.18 Daoyuan Road, Science and Technology City, High-tech Zone, Suzhou, China; and No. 60, Dong 6th Road, Dongying District, Dongying City, China; and Building 9, 99 Haixiu Road, Taizhou, China.
| Beijing University of Posts and Telecommunications (BUPT), a.k.a., the following two aliases: —Beijing University of Posts and Telecommunications, Hangzhou Research Institute; and —Beijing University of Posts and Telecommunications, Shenzhen Research Institute. | For all items subject to the EAR. (See § 744.11 of the EAR) | Presumption of denial | 85 FR 83420, 12/22/20. 88 FR [INSERT FR PAGE NUMBER] 3/6/23.
| No. 10 Xitucheng Rd., Haidian District Beijing 100876, China; and A210, Virtual University Park Building, South District, High-tech Park, Yuehai Street, Nanshan District, Shenzhen, China; and 90 Wensan Road, Xihu District, Hangzhou, Zhejiang, China.
| * * * * * *
| Beijing Zhengyuan Chuangshi Consulting Co., Ltd., Room 410, 4th floor, Building 3, No. 9 Guang'an Road, Fengtai District, Beijing, China. | For all items subject to the EAR. (See § 744.11 of the EAR) | See §§ 744.2(d) and 744.3(d) | 88 FR [INSERT FR PAGE NUMBER] 3/6/23.
| BGI Research, a.k.a., the following four aliases: —BGI Genomics Institute; —Shenzhen BGI Life Science Research Institute; —Shenzhen Huada Gene Research Inst.; and —Shenzhen Huada Gene Research Institute. Building 11 Beishan Industrial Zone Yantian District, Shenzhen, China, 518085. | For all items subject to the EAR. (See § 744.11 of the EAR) | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 88 FR [INSERT FR PAGE NUMBER] 3/6/23.
| BGI Tech Solutions (Hongkong) Co., Ltd., a.k.a., the following three aliases: —BGI Tech Solutions (Hongkong) Co., Ltd.; —Hong Kong Huada Gene Technology Service Co., Ltd.; and —Hong Kong Huada Laboratory Co., Ltd. Tai Po Industrial Estate, 16 Dai Fu St Tai Po, Hong Kong. | For all items subject to the EAR. (See § 744.11 of the EAR) | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 88 FR [INSERT FR PAGE NUMBER] 3/6/23.
| * * * * * *
| Forensic Genomics International, a.k.a., the following five aliases: —BGI Forensic Technology (Shenzhen) Co., Ltd; —BGI Judicial; —FGI; —Huada Judicial; and —Shenzhen Huada Forensic Technology Co., Ltd. Building 11, Beishan Industrial Zone, Yantian District, Shenzhen City, Guangdong, China. | For all items subject to the EAR. (See § 744.11 of the EAR) | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 88 FR [INSERT FR PAGE NUMBER] 3/6/23.
| * * * * * *
| Galaxy Electronics, Unit 3-4 on 5/F, 26-28 Au Pui Wan Street, Futian Industrial Centre, Fo Tan Shatin, Hong Kong; and Block A2 G/F Hoi Bun Industrial 6 Wing Yip Street, Kwun Tong, 07000, Hong Kong; and Flat13 8/F Yale Industrial Center 61-63 Au Pui Wan Street Fotan, Hong Kong; and Hong Cao Road Rm 314 Block 4 #30, Shanghai, 200233, China; and Workshop S&T on 5/F Blk 1 Kin Ho Industrial Building Shatin NT, Hong Kong; and Kin Ho Industrial Building Nos 14-24 Shatin, Hong Kong. | For all items subject to the EAR. (See § 744.11 of the EAR) | Presumption of denial | 88 FR [INSERT FR PAGE NUMBER] 3/6/23.
| Gaobeidian Kaituo Precise Instrument Co., Ltd., a.k.a., the following three aliases: —Baoding Kaituo Precision Instrument Manufacturing Co., Ltd.; | For all items subject to the EAR. (See § 744.11 of the EAR) | See § 744.3(d) of the EAR | 88 FR [INSERT FR PAGE NUMBER] 3/6/23.
| —Kaituo Precise; and
| —Kaituo Precise Instrument.
| Industrial CT Machine Industrial Zone, Youyi East Road, Baigou Town, Gaobeidian City, Hebei, China; and West of Xingsheng Avenue, Baigou Town, Baoding, Hebei, 074004 China.
| * * * * * *
| Harbin Engineering University, a.k.a., the following two aliases: —Harbin Engineering University, Rugao Research Institute and —Harbin Engineering University, Yantai Research Institute. | For all items subject to the EAR (See § 744.11 of the EAR) | Presumption of denial. | 85 FR 34501, 6/5/20. 88 FR [INSERT FR PAGE NUMBER] 3/6/23.
| No. 145 South Tongda Street, Harbin, Hellongjiang Province, China 150001.
| Harbin Institute of Technology, a.k.a., the following nine aliases: —Harbin Engineering University, Anshan Industrial & Technology Research Institute; —Harbin Engineering University, Chongqing Research Institute; —Harbin Engineering University, Huizhou Institute of International Innovation; —Harbin Engineering University, Shenzhen Research Institute; —Harbin Engineering University, Weihai Institute of Industrial Technology; —Harbin Engineering University, Wuhu Robot Industry & Technology Research Institute; —Harbin Engineering University, Wuxi Institute of New Materials; —Harbin Engineering University, Yibi Industrial Technology Research Institute; and —Harbin Engineering University, Yixing Environmental Protection Research Institute. | For all items subject to the EAR. (See § 744.11 of the EAR) | Presumption of denial | 85 FR 34497, 6/5/20. 87 FR 62202, 10/13/22. 88 FR [INSERT FR PAGE NUMBER] 3/6/23.
| No. 92 Xidazhi Street, Nangang District, Harbin, Heilongjiang, China; and No. 92 West Dazhi Street, Nangang District, Harbin, Heilongjiang, China; and No. 2 West Wenhua Road, Weihai, Shandong, China; and Pingshan 1st Road, Shenzhen, Guangdong, China; and 10th Floor, Block A, Keji South 10 Road, High-tech Zone, Yuehai Street, Nanshan District, Shenzhen, China; and No. 17 Shenzhou Road, Office Building of Product Quality Supervision and Inspection Center of National Industrial Robot, Jiujiang Economic and Technological Development Zone, Wuhu City, China; and No. 2 West Wenhua Road, Weihai City, China; and 501 Lvyuan Road, Environmental Science and Technology Industrial Park, Yixing City, China; and Bei Hui Road, Industrial Transformation Cluster Area, Huishan, Wuxi, China; and Room 302, No. 9 Gangyuan Avenue, Lingang Economic Development Zone, Yibin City, China; and No. 618 Liangjiang Dadao, Longxing Town, Yubei District, Chongqing, China; and Management Committee of Huizhou Tonghu Ecological Wisdom Zone, No. 333 Xinhua Avenue, Zhongkai High-tech Zone, Huizhou City, Guangdong Province, China; and No. 196 Qianshan Zhong Lu, Anshan City, China.
| * * * * * *
| Hongtai Electric Ltd., Room Number 2002, 20th Floor, Building B, Jinsha Winera Plaza, Number 1, Shujin Road, Qingyang District, Chengdu, Sichuan, 610091, China; and RMB 14/F Wah Hen Comm Center, 383 Hennessy Road, Wanchai, Hong Kong. | For all items subject to the EAR. (See § 744.11 of the EAR) | See §§ 744.2(d) and 744.3(d) | 88 FR [INSERT FR PAGE NUMBER] 3/6/23.
| * * * * * *
| Inspur Group Co., Ltd., a.k.a., the following two aliases: —Inspur Group; and —IGL. | For all items subject to the EAR. (See §§ 734.9(e)(2) and 744.11 of the EAR) ⁴ | Presumption of denial | 88 FR [INSERT FR PAGE NUMBER] 3/6/23.
| No. 1036 Langchao Road, Jinan City, Shandong, China.
| * * * * * *
| Jotrin Electronics Ltd., 3018 Shennan Mid-Road Unit 3901, Shenzhen, 518031, China; and Room G 4th Floor 1st Block Golden Building 152 Fuk Wah Street Kowloon, Hong Kong. | For all items subject to the EAR. (See § 744.11 of the EAR) | Presumption of denial | 88 FR [INSERT FR PAGE NUMBER] 3/6/23.
| * * * * * *
| Korchina Logistics (HK) Ltd., 1/F Metex House 24-32 Fui Yiukok Street Tsuen Wan New Territories, Hong Kong; and 11014-11016 W 11F ATL Logistics Center B Berth 3 Kwai Chung, Hong Kong; and Room 1008E-1010E 1/FL Centre A ATL Logistics Centre Kwai Chung, Hong Kong; and 63 Wang Ling Street Flat A 1/F Tsuen Was Industrial Tsuen Wang, Hong Kong. | For all items subject to the EAR. (See § 744.11 of the EAR) | Presumption of denial | 88 FR [INSERT FR PAGE NUMBER] 3/6/23.
| * * * * * *
| Liang Ping Huang, a.k.a., the following one alias: —Sana Wong. Unit A10, 8/F, Block A, Proficient Industrial Centre, No. 6 Wang Kwun Road, Kowloon Bay, Kowloon, Hong Kong; and 11/F, Front Block, Hang Lok Building, 128-130 Wing Lok St., Sheu, Hong Kong; and Rm 2318, Dengcheng Plaza, Zhenzhong Road, Futian District, Shenzhen, China; and 18th Floor, Building B, Guoli Building, Zhonghang Road, Futian District, Shenzhen, Guangdong, China. | For all items subject to the EAR. (See § 744.11 of the EAR) | See §§ 744.2(d) and 744.3(d) of the EAR | 88 FR [INSERT FR PAGE NUMBER] 3/6/23.
| * * * * * *
| Loongson Technology, a.k.a., the following four aliases: —Loongson Technology Corporation Limited; —Loongson Zhongke Technology Co., Ltd; —Loongson Zhongke; and —Godson Zhongke. Room 101, 1st Floor, Building 4, Yard 7, Dijin Road, Haidian District, Beijing, China. | For all items subject to the EAR. (See §§ 734.9(e)(2) and 744.11 of the EAR) ⁴ | Presumption of denial | 88 FR [INSERT FR PAGE NUMBER] 3/6/23.
| * * * * * *
| Luo Dingwen, Room 905 Fubaoxiuyu Business Building A, No. 77 Fuxing Road, Baoding City, Hebei, China; and 35 Baihua West Road, New Urban District, Baoding City, Hebei, China; and Industrial CT Machine Industrial Zone, Youyi East Road, Baigou Town, Gaobeidian City, Hebei, China. | For all items subject to the EAR. (See § 744.11 of the EAR) | See § 744.3(d) of the EAR. | 88 FR [INSERT FR PAGE NUMBER] 3/6/23.
| * * * * * *
| Nanjing colpak Mechanical Equipment Co., Ltd., Office No. 1-128, Front Bungalow, 21 Lanqi Street, Qinhuai District, Najing, Jiangsu, 21000, China. | For all items subject to the EAR. (See § 744.11 of the EAR) | See §§ 744.2(d) and 744.3(d) | 88 FR [INSERT FR PAGE NUMBER] 3/6/23.
| * * * * * *
| Nanjing Jiuding Refrigeration & Air-conditioning Equipment Co., Ltd., No. 8, West Longzhong Road, Luhe Economic Development Zone, Nanjing, Jiangsu 211500, China. (See alternate address under Pakistan). | For all items subject to the EAR. (See § 744.11 of the EAR) | See §§ 744.2(d) and 744.3(d) | 88 FR [INSERT FR PAGE NUMBER] 3/6/23.
| * * * * * *
| Nanjing University of Aeronautics and Astronautics, a.k.a., the following five aliases: —Nanjing University of Aeronautics and Astronautics, Aerospace Engineering Research Institute; —Nanjing University of Aeronautics and Astronautics, Qinhuai Innovation Research Institute; —Nanjing University of Aeronautics and Astronautics, Shenzhen Research Institute; —Nanjing University of Aeronautics and Astronautics, Suzhou Research Institute; and —Nanjing University of Aeronautics and Astronautics, Wuxi Research Institute. | For all items subject to the EAR. (See § 744.11 of the EAR) | Presumption of denial | 85 FR 83420, 12/22/2020. 88 FR [INSERT FR PAGE NUMBER] 3/6/23.
| No. 29 Yudao Street, Nanjing, Jiangsu, China; and No. 29 Jiangjun Avenue, Jiangning District, Nanjing, Jiangsu, China; and No. 29 Binhe East Road, Liyang, Jiangsu, China; and Building 3, Sancai Building, 10 Yongzhi Road, Qinhuai District, Nanjing, China; and Building 6, 78 Keling Road, Science and Technology City, High-tech Zone, Suzhou, China; and No. 40 Renmin South Road, Luoshe Town, Huishan District, Wuxi, China; and Room 218, Zone A, Building R4, Virtual University Park, No. 19, Gaoxin South Fourth Road, Yuehai Street, Nanshan District, Shenzhen, China; and No. 69 Feitian Dadao, Jiangning Development Zone, Nanjing, China.
| Nanjing University of Science and Technology, a.k.a., the following five aliases: —Nanjing University of Science and Technology, Donghai Silicon Material Technology Research Institute; | For all items subject to the EAR. (See § 744.11 of the EAR) | Presumption of denial | 85 FR 83420, 12/22/20. 88 FR [INSERT FR PAGE NUMBER] 3/6/23.
| —Nanjing University of Science and Technology, Lianyungang Research Institute; —Nanjing University of Science and Technology, North China Institute; —Nanjing University of Science and Technology, Shuyang Industrial Design and Creative Industry Research Institute; and —Nanjing University of Science and Technology, Taizhou Research Institute.
| No. 200 Xiaolingwei Street, Xuanwu District, Nanjing, Jiangsu, China; and No. 89 Wenlan Road, Qixia District, Nanjing, Jiangsu, China; and 8 Nujiang Road, Hexi District, Tianjin, China; and No. 2, Chenguang Road, Science and Education Entrepreneurship Park, Lianyungang, Jiangsu, China; and 3-4 Floor, Building A, Software Industry Building, Shuyang County, Suqian City, Jiangsu, China; and Science and Education Entrepreneurship Park, Jingdu Avenue North, Donghai County, Lianyungang, Jiangsu, China; and Mechanical Chemical Experimental Building, No. 8, Meilan East Road, Hailing District, Taizhou City, China.
| * * * * * *
| National Research Center for Parallel Computer Engineering and Technology, a.k.a., the following one alias: —NRCPC. No. 1 Yinbai Road, Binhu District, Wuxi City, China. | For all items subject to the EAR. (See §§ 734.9(e)(2) and 744.11 of the EAR) ⁴ | Presumption of denial | 88 FR [INSERT FR PAGE NUMBER] 3/6/23.
| * * * * * *
| Northwestern Polytechnical University, a.k.a. the following ten aliases: —Northwest Polytechnic University; —Northwest Polytechnical University; —Northwestern Polytechnic University; —Northwestern Polytechnical University, Beijing Research Institute; —Northwestern Polytechnical University, Chongqing Innovation Center; —Northwestern Polytechnical University, Collaborative Innovation Center; —Northwestern Polytechnical University, Ningbo Research Institute; —Northwestern Polytechnical University, Qingdao Research Institute; —Northwestern Polytechnical University, Shenzhen Research Institute; and —Northwestern Polytechnical University, Yangtze River Delta Research Institute. | For all items subject to the EAR. (See § 744.11 of the EAR) | Presumption of denial | 66 FR 24266, 5/14/01. 75 FR 78883, 12/17/10. 77 FR 58006, 9/9/12. 81 FR 64696, 9/20/16. 84 FR 40241, 8/14/19. 87 FR 62202, 10/13/22. 88 FR [INSERT FR PAGE NUMBER] 3/6/23.
| 127 Yonyi Xilu, Xi'an 71002 Shaanxi, China; and Youyi Xi Lu, Xi'an, Shaanxi, China; and No. 1 Bianjia Cun, Xi'an, China; and West Friendship Rd. 59, Xi'an, China; and 3 10 W Apt 3, Xi'an, China; and Yard 5, Yangfangdian East Road, Haidian District, Beijing, China; and 20th Floor, Block B, Innovation Building, 17 Laodong South Road, Xi'an, China; and 25th Floor, Shenzhen Sanhang Technology Building, Northwestern Polytechnical University, No. 45, Gaoxin South 9th Road, Nanshan District, Shenzhen, China; and Building 4, Phase II, Qingdao Blue Valley Venture Center, Jimo District, Shandong Province, Qingdao City, China; and Lane 218, Qingyi Road, High-tech Zone, Ningbo, China; and 27 Zigang Road, Science and Education New Town, Jiangsu Province, Taicang City, China; and Building A2, Liangjiang Quaker Headquarters City, No. 598 Liangjiang Avenue, Longxing Town, Yubei District, Chongqing, China; and Block A, No. 515 Shennan Road, Minhang District, Shanghai, China.
| * * * * * *
| Qingdao National Laboratory of Marine Science and Technology, a.k.a., the following one alias: —QNLM. | For all items subject to the EAR. (See §§ 734.9(e)(2) and 744.11 of the EAR) ⁴ | Presumption of denial | 88 FR [INSERT FR PAGE NUMBER] 3/6/23.
| 168 Wenhai Middle Rd., Aoshanwei, Jimo District, Qingdao, Shangdong, China, 266237.
| * * * * * *
| Rayscience Optoelectronics Innovation Co., Ltd., 3rd Floor, Building 47, No. 2338, Duhui Road, Minhang District, Shanghai, China; and 5F, Building 21, Douhui Road 2338 Lane, Shanghai, China; and Ste 306, Building 1, Shennan Road 59, Shanghai, China; and Unit 3A, 5F, Far East Consortium Building 21 Des Voeux Road Central HK01, Hong Kong; and Flat B 607, 6/F Jumbo Industrial Building, Hong Kong. | For all items subject to the EAR. (See § 744.11 of the EAR) | See § 744.3(d) of the EAR | 88 FR [INSERT FR PAGE NUMBER] 3/6/23.
| * * * * * *
| Sichuan University, a.k.a., the following five aliases: —Sichuan University, Institute of Advanced Polymer Materials; —Sichuan University, Luzhou Industrial Technology Research Institute; | For all items subject to the EAR. (See § 744.11 of the EAR) | Case-by-case basis | 77 FR 58006, 9/19/12. 88 FR [INSERT FR PAGE NUMBER] 3/6/23.
| —Sichuan University, Qingdao Research Institute; —Sichuan University, Suzhou Research Institute; and —Sichuan University, Yibin Industrial Technology Research Institute.
| No. 24 South Section 1, Yihuan Road, Chengdu, China, 610065; and No. 29 Jiuyanqiao Wangjiang Road, Chengdu, China, 610064; and People's South Road, Chengdu, China, 610041; and Shuangliu County, Chuanda Road, Chengdu, China, 610207; and Block B, Building 2, Blue Silicon Valley Entrepreneurship Center II, Blue Silicon Valley Core District, Aishanwei Street, Shandong Province, Qingdao City, China; and Room 707, Building 5, Public College, No. 377 Linquan Street, Dushu Lake Higher Education Zone, Suzhou, China; and Yibin Zone of Sichuan University Park, Second section, West Changjiang North Road, Yibin Lingang Economic and Technological Development Zone, China; and No. 264-279, 4th Floor, Area 17, No. 68, Section 1, Yuntai Road, Lingang District, Sichuan Free Trade Zone, China; and Jiang'an Campus, Sichuan University, 2nd Section, Chuanda Road, Shuangliu District, Sichuan Province, Chengdu City, China.
| * * * * * *
| Sunton Tech Hong Kong Ltd., a.k.a., the following two aliases: —Sunton Tech (HK) Limited; and | For all items subject to the EAR. (See § 744.11 of the EAR) | See §§ 744.2(d) and 744.3(d) of the EAR | 88 FR [INSERT FR PAGE NUMBER] 3/6/23.
| —Shenzhen Unicom Electronic Technology Limited.
| Unit A10, 8/F, Block A, Proficient Industrial Centre, No. 6 Wang Kwun Road, Kowloon Bay, Kowloon, Hong Kong; and 11/F, Front Block, Hang Lok Building, 128-130 Wing Lok St., Sheu, Hong Kong; and Rm. 2318, Dengcheng Plaza, Zhenzhong Road, Futian District, Shenzhen, China; and 18th Floor, Building B, Guoli Building, Zhonghang Road, Futian District, Shenzhen, Guangdong, China.
| * * * * * *
| Suzhou Centec Communications Co., Ltd., a.k.a., the following one alias: —Centec Networks (Suzhou) Co., Ltd. | For all items subject to the EAR. (See § 744.11 of the EAR) | Presumption of denial | 88 FR [INSERT FR PAGE NUMBER] 3/6/23.
| Unit 13/16, 4th Floor, Building B, No. 5 Xinghan St., Suzhou Industrial Park, Jiangsu, China; and Room 076, 21st Floor, 23rd Floor, Building 22, Shouti South Road, Haidian District, Beijing.
| Suzhou Centec Technology Co., Ltd., Room 201, Building 6, No. 5, Xinghan St., Suzhou Industrial Park, Suzhou, China. | For all items subject to the EAR. (See § 744.11 of the EAR) | Presumption of denial | 88 FR [INSERT FR PAGE NUMBER] 3/6/23.
| * * * * * *
| Tianjin University, a.k.a., the following thirteen aliases: —Tianjin University, Binhai Industrial Research Institute; —Tianjin University, Hefei Institute for Innovation and Development; —Tianjin University, Institute of Medical Robots and Intelligent Systems; | For all items subject to the EAR. (See § 744.11 of the EAR) | Presumption of denial | 85 FR 83420, 12/22/20. 88 FR [INSERT FR PAGE NUMBER] 3/6/23.
| —Tianjin University, Jinnan Innovation Research Institute; —Tianjin University, Qingdao Ocean Engineering Research Institute; —Tianjin University, Quanzhou Integrated Circuit and Artificial Intelligence Research Institute; —Tianjin University, Shandong Research Institute;
| —Tianjin University, Shenzhen Research Institute; —Tianjin University, Sichuan Innovation Research Institute; —Tianjin University, Urban Planning and Design Institute; —Tianjin University, Wuqing Institute of Frontier Technology; —Tianjin University, Zhejiang Research Institute; —Tianjin University, Zhejiang Shaoxing Research Institute; and —Tianjin University, Zhongyuan Advanced Technology Research Institute.
| No. 92 Weijin Road, Tianjin, China 300072; and Building 2, 1 Xinxing Road, Wuqing Development Zone, Tianjin New Technology Industrial Park, China; and Building 1, Entrepreneurship Center (Incubator D plot), Blue Silicon Valley Core District, Qingdao, China; and 14th/16th Floor, Integrated Business Building, Hefei Export Processing Zone, Anhui Province (South of Yungu Road, East of Taozhi Road, Hefei Economic Development Zone), China; and 51 Lutai Dadao, Zhangdian District, Zibo City, Shandong Province, China; and 5th Floor (Science Park), Tianda High-tech Building, 192 Anshan West Road, Nankai District, Tianjin, China; and No. 2, Haitai Huakke No. 5 Road, Huayuan Industrial Park (Outside the Ring), Binhai High-tech Zone, Tianjin, China; and 15th floor, Quanzhou Software Park Complex Building, Beifeng Street, Fengze District, Quanzhou City, China; and A216 Virtual University Park, High-tech Park, Yuehai Street, Nanshan District, Shenzhen, China; and No. 11-17-30, Makerspace, 11th Floor, Citizens' Home, Sandajie, New District, Kaifeng City, Henan Province, China; and Room 214, Building 3, 48 Jialingjiang Road, Lingang Economic Zone, Tianjin, China; and No. 85 Zhongguanxi Road, Zhenhai District, Ningbo City, China; and Building B6, District D, Tianfu New Economic Industrial Park, Xinglong Lake, Tianfu New District, Chengdu City, Sichuan Province, China; and No. 88, Kangyang Avenue, Hangzhou Bay Shangyu Economic and Technological Development Zone, Shaoxing City, Zhejiang Province, China.
| * * * * * *
| Wuxi Institute of Advanced Technology, Building 2, K-Park Business Center, No. 50 Xiuxi Road, Binhu District, Wuxi City, Jiangsu Province, China. | For all items subject to the EAR. (See §§ 734.9(e)(2) and 744.11 of the EAR) ⁴ | Presumption of denial | 88 FR [INSERT FR PAGE NUMBER] 3/6/23.
* * * * * * *
PAKISTAN | * * * * * *
| Abdul Razaq Asim, Unit 6, 1/F, Munawar Centre, Lahore, Pakistan; and 1/F, Sh. Rehmat Ullah Market, 16 Hall Road, Lahore, Pakistan. | For all items subject to the EAR. (See § 744.11 of the EAR) | See §§ 744.2(d), and 744.3(d) of the EAR | 88 FR [INSERT FR PAGE NUMBER] 3/6/23.
| * * * * * *
| Add-On Technology, Unit 6, 1/F, Munawar Centre, Lahore, Pakistan. | For all items subject to the EAR. (See § 744.11 of the EAR) | See §§ 744.2(d) and 744.3(d) of the EAR | 88 FR [INSERT FR PAGE NUMBER] 3/6/23.
| * * * * * *
| Dynamic Engineers, 1/F, Sh. Rehmat Ullah Market, 16 Hall Road, Lahore, Pakistan. | For all items subject to the EAR. (See § 744.11 of the EAR) | See §§ 744.2(d) and 744.3(d) of the EAR | 88 FR [INSERT FR PAGE NUMBER] 3/6/23.
| * * * * * *
| Nanjing Jiuding Refrigeration & Air-conditioning Equipment Co., Ltd., 107 Sughra Tower, F-11 Markaz Islamabad Pakistan. (See alternate address under China). | For all items subject to the EAR. (See § 744.11 of the EAR) | See §§ 744.2(d) and 744.3(d) | 88 FR [INSERT FR PAGE NUMBER] 3/6/23.
| * * * * * *
* * * * * * *
RUSSIA | * * * * * *
| DMT Electronics, a.k.a., the following four aliases: —DMT Electronics, JSC; —DMT Elektroniks AO; —Joint Stock Company DMT Electronics; and —ZAO DMT Elektroniks. Panfilovskiy Prospekt, 10, FL 3 Room 430, Zelenograd, Moscow, Russia, 124460; and 527, 10 Panfilovsky, Zelenograd, Moscow, Russia 124060. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 3/6/23.
| * * * * * *
* * * * * * *
TAIWAN | * * * * * *
| Neotec Semiconductor Ltd., a.k.a., the following one alias: —Xinde Technology. 4F-1., No. 32, Taiyuan St., Hsinchu County 302, Zhubei City, Taiwan; and Tai Yuen Industrial Park 32 Tai Yuen St FL 4 No Zhubei, Wallis and Futuna 302, Taiwan; and 4f No. 32 Taiyuan St. Chupei City, 30265, Taiwan. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 3/6/23.
| * * * * * *

* * * * *

Thea D. Rozman Kendler,
Assistant Secretary for Export Administration.

[FR Doc. 2023-04558 Filed 3-2-23; 4:15 pm]

BILLING CODE 3510-33-P